DEPARTMENT OF TRANSPORTATION

Federal Aviation Administration

First Meeting: RTCA Special Committee 231, Special Committee 231 TAWS-GPWS

AGENCY: Federal Aviation Administration (FAA), U.S. Department of Transportation (DOT).

ACTION: Meeting Notice of RTCA Special Committee 231, TAWS-GPWS.

SUMMARY: The FAA is issuing this notice to advise the public of the first meeting of the RTCA Special Committee 231, TAWS- GPWS.

DATES: The meeting will be held May 28-29, 2014 from 9:00 a.m.-5:00 p.m.

ADDRESSES: The meeting will be held at RTCA Headquarters, RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 213. The agenda will include the following:

May 28

• Welcome

• Administrative Remarks

• Agenda Review

• Introductions

• RTCA Process Overview

• FAA Presentation on the desire for a MOPS update

• SC-231 Scope and Terms of Reference review

• SC-231 Structure and Organization of Work

• Proposed Schedule

• RTCA workspace presentation

• Other Business

• Date and Place of Next Meeting

• Adjourn, Review of terms of reference

• Status of DO-342A and DO-315C Drafts

• Industry updates

• WG-1 DO-315C draft review

May 29

• Continuation of Plenary or Working Group Session

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on April 9, 2014.
Paige Williams,
Management Analyst, NextGen, Business Operations Group, Federal Aviation Administration.

[FR Doc. 2014-08614 Filed 4-15-14; 8:45 am]

BILLING CODE 4910-13-P